NATIONAL SCIENCE FOUNDATION

National Science Board; Sunshine Act Meetings; Notice

The National Science Board's Committee on Strategy and Budget, pursuant to NSF regulations (45 CFR part 614), the National Science Foundation Act, as amended (42 U.S.C. 1862n-5), and the Government in the Sunshine Act (5 U.S.C. 552b), hereby gives notice in regard to the scheduling of a meeting for the transaction of National Science Board business and other matters specified, as follows:

DATE AND TIME: Tuesday, July 29, 2010 at 2 p.m. to 3:30 p.m.

SUBJECT MATTER: Future year budgets.

STATUS: Closed.

LOCATION: This meeting will be held at National Science Foundation, 4201Wilson Blvd., Arlington, VA 22230.

UPDATES AND POINT OF CONTACT: Please refer to the National Science Board Web site http://www.nsf.gov/nsb for additional information and schedule updates (time, place, subject matter or status of meeting) may be found at http://www.nsf.gov/nsb/notices/. Point of contact for this meeting is: Blane Dahl, National Science Board Office, 4201Wilson Blvd., Arlington, VA 22230. Telephone: (703) 292-7000.

Daniel A. Lauretano,
Counsel to the National Science Board.

[FR Doc. 2010-17439 Filed 7-13-10; 4:15 pm]

BILLING CODE 7555-01-P